DEPARTMENT OF THE INTERIOR

Bureau of Land Management

[LLNM950000 L14400000.BJ0000 LXSSG0200000 17X]

Notice of Filing of Plat of Survey; Oklahoma, Suspended

AGENCY: Bureau of Land Management, Interior.

ACTION: Notice of official filing.

On Friday, June 12, 2009, there was published in the Federal Register, Volume 74, Number 112, on pages 28061 and 28062, a notice entitled, “Notice of Filing of Plats of Survey, New Mexico, Oklahoma, Texas, and Kansas.” Said Notice referenced the filing of the plat of Townships 5 and 6 South, Range 12 West of the Indian Meridian, Oklahoma, accepted May 8, 2009, for Group 85 OK. This plat officially filed on July 13, 2009, is hereby suspended to allow for investigation of the survey methodology used to identify the gradient boundary. On Thursday, February 25, 2010, there was published in the Federal Register, Volume 75, Number 37, on pages 8738 and 8739, a Notice entitled, “Notice of Filing of Plats of Survey, NM.” Said Notice referenced a filing of the plats of Township 5 South, Range 13 West, of the Indian Meridian—Oklahoma, accepted September 24, 2009, for group 80 OK; and Township 5 South Range 15 West, of the Indian Meridian—Oklahoma, accepted September 24, 2009, for Group 82 OK. Both were officially filed on July 19, 2010.

Both plats are hereby suspended to allow for investigation of the survey methodology used to identify the gradient boundary.

As explained by the Glossaries of BLM Surveying and Mapping Terms (2nd ed.), the BLM may suspend a plat of survey when a question or doubt arises concerning its correctness. Once suspended, the BLM may correct, reinstate, or cancel the survey, either in whole or in part; however, the BLM may not initiate or complete an action based on the survey while it is suspended.

Amy Lueders,
State Director.

[FR Doc. 2017-15957 Filed 7-27-17; 8:45 am]

BILLING CODE 4310-FB-P